DEPARTMENT OF LABOR

Office of the Secretary

[Secretary's Order 2-2000]

U.S. Department of Labor Internet Services

1. Purpose. To establish policy and assign responsibilities for the development, implementation, institutionalization, and continuing support of Department of Labor public Internet services.

2. Authority and Relationship to Other Orders a. Authority. This Order is issued pursuant to 29 U.S.C. 551 et seq.; 5 U.S.C. 301; and sections 5122-5127 of the Clinger-Cohen Act [40 U.S.C. 1422-27].

b. Relationship to Other Orders.

(1) This Order does not affect Secretary's Order 2-82, which delegates responsibilities to the Assistant Secretary for Policy.

(2) This Order does not affect Secretary's Order 1-2000, which delegates responsibilities to the Chief Information Officer.

(3) This Order does not affect Secretary's Order 7-89, which delegates responsibilities to the Assistant Secretary for Congressional and Intergovernmental Affairs and the Assistant Secretary for Public Affairs.

(4) This Order does not affect Secretary's Order 6-83 which establishes procedures regulating departmental audiovisual activities.

3. Background. The Department of Labor (DOL) established a central public Internet web site in September 1995. By March 2000, thousands of documents had been published on the DOL site and the number of visitors had reached more than 12.5 million each month. The importance of the DOL web site to the public continues to expand.

4. Statement of Policy. The public Internet web site has emerged as, and will continue to be, a key vehicle for the Department's communications with the public. DOL's ability to communicate and conduct business with the public will continue to require the effective use and management of Internet technology. To effectively utilize Internet services, the Department must appropriately integrate them into its daily program and administrative operations. To formally implement this process, the Department must:

a. Assure the availability of regularly updated information about DOL and its laws, regulations, programs, activities, and data to the public through the web site.

b. Provide a mechanism for DOL to improve its ability to communicate and do business with the public through the Internet.

c. Assure adequate planning and resources, including training of DOL employees, to support current and future operations of DOL web site services.

d. Ensure that Departmental use of the web site is in compliance with statutory and administrative information technology (IT) mandates.

e. Ensure that all information placed on the main DOL or individual agency web sites receives appropriate review and clearance within the Department prior to issuance, including consideration of all appropriate factors such as: the need for coordination between relevant agencies; appropriate levels of clearance; timeliness and accuracy of information; and the implications of applicable statutory and administrative requirements or guidelines.

f. Ensure that web site clearance requirements and processes are properly integrated with general Department and agency clearance requirements and processes.

g. Promote easy access to DOL public web site information through user-friendly, effective and efficient web sites and maximize the use of accessibility features to make it easier for members of the public, including those with special needs, to find the information they seek.

h. Promote secure, transactional e-government activities on the DOL web site.

5. Definitions. a. “Agency Public Web Site Content Clearance Processes” refers to the procedures to be developed by individual DOL agencies for purposes of reviewing and approving documents and other substantive materials to be placed on their web sites (see paragraph 6f(4));

b. “Application and Presentation Activities” refers to activities that occur at different layers of the Open Systems Interconnect (OSI) model. The OSI model is a network model that professionals can use to develop and administer networking systems. This model was developed by the International Standards Organization (ISO).

(1) The Presentation Layer translates the sender's data to the format of the receiver.

(2) The Application Layer includes all the processes that the users directly interact with, as well as other processes that users are not necessarily aware of, and provides the services user applications need to communicate through the network.

c. “Departmental Public Web Site Content Clearance Requirements” refers to the minimum standards applicable to the Departmental Public Web Site Clearance Process and Agency Public Web Site Clearance Processes. See paragraph 6a(1)(b).

d. “Departmental Public Web Site Content Clearance Process” refers to the procedures to be developed by the Assistant Secretary for Policy (ASP) for purposes of the Department's review and approval of documents and other substantive materials to be placed on the DOL public web site and which require Department-level clearance (see paragraph 6a(1)(a).

e. “Production Internet Environment” refers to the real or fully developed operational system that is used by the intended customer in the live, or operation environment.

f. The term “new web site” refers to a new presence on the public DOL Internet web site or a web site where DOL has shared responsibility. Examples include, but are not limited to, sites that represent a new program, statute, Departmental initiative, new type of information offered to the public, or new web sites co-sponsored by the Department and another entity, public or private.

6. Delegation of Authority and Assignment of Responsibilities. a. The Assistant Secretary for Policy is delegated authority and assigned responsibility for:

(1) Coordinating and managing the overall DOL public web site presence to ensure that web site-based information and services are cohesive, accessible, timely, accurate and authoritative. This coordination and management shall include establishing, in consultation with the Office of the Solicitor (SOL), the Office of the Secretary (OSEC), the Office of Public Affairs (OPA), the Office of the Assistant Secretary for Administration and Management (OASAM), and other relevant agencies:

(a) A “Departmental Public Web Site Content Clearance Process,” which shall be coordinated by ASP and which shall apply to Public Web Site content which requires Department-level clearance; and

(b) A “Departmental Public Web Site Content Clearance Requirements,” which shall set forth minimum standards for both individual Agency Public Web Site Content Clearance Processes (see paragraph 6f(4)) and the Departmental Public Web Site Content Clearance Process established by ASP under subparagraph (a). The Departmental Public Web Site Content Clearance Requirements shall apply to all content posted on Departmental and Agency Public Web Sites [including hypertext links to non-DOL sites], and to all content provided to other web sites by the Department, and shall, at a minimum:

1. Provide for appropriate coordination with all relevant agencies and be properly integrated with general Departmental and agency clearance processes;

2. Provide criteria for determining the appropriate level of clearance for documents posted on Public Web Sites, including (at a minimum):

a. Clearance by the Office of the Secretary (and all relevant agency heads) of all material that bears the Secretary's signature, purports to be over the Secretary's signature, or purports to represent the Secretary's views;

b. Clearance by the Office of the Deputy Secretary (and all relevant agency heads) of all material that bears the Deputy Secretary's signature, purports to be over the Deputy Secretary's signature, or purports to represent the Deputy Secretary's views; and

c. Clearance by the relevant agency head (and by other agency heads if appropriate) of all material that bears that agency head's signature, purports to be over that agency head's signature, or purports to represent that agency head's views.

3. Ensure that information is accurate, timely, and regularly updated;

4. Provide for consideration of, and appropriate coordination with SOL regarding, applicable statutory and administrative requirements or guidelines, including, for example, the programmatic laws administered by the Department; the Privacy Act; the Paperwork Reduction Act; the Unfunded Mandates Reform Act of 1995; the Freedom of Information Act; the Administrative Procedure Act; copyright, trademark and patent laws; civil rights laws; Federalism principles; ethics requirements; and Administration guidance regarding agency use of the Internet;

5. Provide for consideration of, and appropriate coordination with SOL regarding, the need for and content of disclaimers; and

6. Provide for ASP coordination of clearance by all relevant agencies (including, at a minimum, OPA, OASAM, OSEC, and SOL), of all new DOL web sites and related web pages (including new individual agency web sites and related web pages).

(2) In consultation with appropriate agencies and the Internet Management Group, developing:

(a) Cross-cutting, web-based applications; and

(b) Implementation guidelines, policies, and procedures for such web-based applications, in compliance with DOL IT architecture, in accordance with the IT capital planning and investment management process, and in conjunction with agencies.

(3) In consultation with appropriate agencies and the Internet Management Group, establishing policies and processes for the development, implementation, operation, expansion, and institutionalization of Departmental and individual agency web site content and services for application and presentation activities.

(4) Monitoring the implementation of DOL Public Web Site application and presentation services, including individual agency services, to assure the quality and timeliness of the content and adherence to DOL policies and standards; and preparing periodic status reports, including action items, for individual agency web sites.

(5) Coordinating Departmental Public Web Site application and presentation activities and functions with designated Agency Internet Coordinators and the Internet Management Group (see paragraph 6a(9)).

(6) As appropriate, providing input to the ASAM, the CIO, SOL, or other relevant agencies on Public Web Site content and services activities for the DOL Strategic Plan, the IT Strategic Plan, the DOL Performance Plan, Government Performance and Results Act reports, Congressional testimony, inquiries and other reports as necessary to ensure accuracy and consistency with Departmental goals and vision.

(7) In coordination with SOL and OSEC, reviewing Agency Public Web Site Clearance Processes (see paragraph 6f(4)) for compliance with the Departmental Public Web Site Content Clearance Requirements established under paragraph 6a(1)(b) and, if the processes are compliant, approving them.

(8) In conjunction with OPA, and subject to the Departmental Public Web Site Content Clearance Process established under paragraph 6a(1)(a), maintaining and approving all information on the main DOL web pages;

(9) Establishing and chairing an Internet Management Group comprising designated Agency Internet Coordinators and designated policy-level representatives from SOL, OPA, and the CIO, chartered to promote Internet content coordination throughout the Department, communicate Departmental Internet policies to agencies, and explore and implement opportunities for improving the utility of the DOL Public Web Site.

(10) Developing, in consultation with the Internet Management Group (see paragraph 6a(9)), relevant policies and guidance for content of public Departmental and Agency Internet Services not involving the Public Web Site.

(11) In coordination with the CIO, defining a Departmental Internet Vision Statement.

(12) Preparing Annual Internet Status Reports for the CIO and the Secretary highlighting progress toward, and plans for, realizing the Department's Internet vision.

b. The Chief Information Officer (CIO) is assigned responsibility for:

(1) Consistent with Secretary's Order 1-2000 (“Authority and Responsibilities for Implementation of the Paperwork Reduction Act of 1995 (P.L. 104-13) and the Clinger-Cohen Act of 1996 (Information Technology Management Reform Act of 1996) (Division E of P.L. 104-106),” overseeing the technical aspects of Departmental Internet activities pursuant to the Clinger-Cohen Act, the Paperwork Reduction Act, and other applicable statutory or administrative mandates; and

(2) Designating a policy-level representative to serve on the Internet Management Group (see paragraph 6a(9)).

c. The Assistant Secretary for Administration and Management (ASAM) is responsible for assuring, through the Department's budget review process, that agencies have appropriate plans and budgetary commitment to support the continuing development, implementation, operation, and expansion of DOL Internet services. In addition, the ASAM is assigned responsibility for:

(1) Providing for the production Internet environment for the DOL web site in accordance with the DOL IT Architecture.

(2) Developing and maintaining interoperability and interface procedures.

(3) Designating a policy-level representative to serve on the Internet Management Group (see paragraph 6a(9)).

d. The Assistant Secretary for Public Affairs is assigned responsibility for:

(1) In consultation with ASP, SOL and OSEC, establishing policy and standards to appropriately integrate DOL Public Web Site services into the public affairs operations of the Department;

(2) Ensuring that agency public affairs officers address issues related to the use of the DOL Public Web Site services in public affairs operations;

(3) Monitoring the quality and timeliness of public affairs information on individual agency web pages;

(4) In conjunction with ASP, and subject to the Departmental Public Web Site Content Clearance Process established under paragraph 6a(1)(a), maintaining and approving all information on the main DOL web pages; and

(5) Designating a policy-level representative to serve on the Internet Management Group (see paragraph 6a(9)).

e. The Solicitor of Labor is delegated authority and assigned responsibility for:

(1) Providing legal advice and counsel to the Department and agencies on all matters arising in the administration of this Order;

(2) Consulting with ASP and individual agencies in the design and implementation of the Departmental Public Web Site Content Clearance Requirements (see paragraph 6a(1)(b)); Departmental and Agency Public Web Site Content Clearance Processes (see paragraphs 6a(1)(a) and 6f(4)); web-based applications and related implementation guidelines, policies and procedures (see paragraph 6a(2)); and policy and process for Public Web Site content and services for application and presentation activities (see paragraph 6a(3));

(3) Consulting with OPA on the integration of DOL Public Web Site services into the public affairs operations of the Department; and

(4) Designating a policy-level representative to serve on the Internet Management Group (see paragraph 6a(9)).

f. DOL Agency Heads are delegated authority and assigned responsibility for developing, implementing, operating, and expanding their individual agency Internet services in accordance with DOL policy and standards, including the Departmental Public Web Site Content Clearance Requirements established under paragraph 6a(1). These responsibilities include, but are not limited to, the following:

(1) Developing individual agency visions and plans for Internet services to support current and future mission needs;

(2) Providing the resources and training necessary to develop, implement, operate, and expand individual agency Internet services;

(3) Designating Agency Internet Coordinators at the policy level to serve as points of contact on any Internet-related issue, and to serve as members of the Internet Management Group (see paragraph 6a(9));

(4) Developing, implementing and maintaining Agency Public Web Site Content Clearance Processes, which shall

(a) Accord with the Departmental Public Web Site Content Clearance Requirements established under paragraph 6a(1)(b) above;

(b) Be properly integrated with general Department and agency clearance processes; and

(c) Be reviewed and approved by ASP, OSEC and SOL.

(5) Ensuring quality control and full compliance with all Departmental Internet policies and processes; and

(6) Providing input to ASP concerning the Annual Internet Status Report and other Internet reports as necessary.

(7) Obtaining approval of all new web sites before making the sites available to the public in accordance with paragraph 6a(1)(b)(6).

(8) Ensuring that all grandfathered Public Web Site content is cleared consistently with the requirements of Paragraph 10b.

(9) The requirements of this section apply to all DOL Agency Heads, including (but not limited to) ASP, OASAM, the CIO, OPA and SOL.

7. Reservation of Authority. a. The submission of reports and recommendations to the President and Congress concerning the administration of statutory or administrative provisions is reserved to the Secretary.

b. This Secretary's Order does not affect the authorities or responsibilities of the Office of Inspector General under the Inspector General Act of 1978, as amended, or under Secretary's Order 2-90 (January 31, 1990).

8. Transfer of Authority. The Assistant Secretary for Policy may transfer the authority and responsibility set forth in paragraph 6a(10) to other agency heads, as appropriate.

9. Effective Date. This Order is effective immediately.

10. Grandfather Clause. a. Existing Departmental and Agency Public Web Site clearance requirements and processes shall continue in effect until the new requirements and processes created under paragraphs 6a(1) and 6f(4) (whichever applies) are established.

b. ASP shall provide a detailed plan, to be implemented within a timetable established by ASP, for assuring that all grandfathered Public Web Site content has been cleared consistent with the Departmental Public Web Site Content Clearance Process established under paragraph 6a(1)(a).

Dated: June 22, 2000.
Alexis M. Herman,
Secretary of Labor.

[FR Doc. 00-20763 Filed 8-15-00; 8:45 am]

BILLING CODE 4510-23-U